DEPARTMENT OF THE INTERIOR

Bureau of Land Management

[A2407-014-004-065516; #O2412-014-004-047181.1]

Public Meeting for the Missouri Basin Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Missouri Basin Resource Advisory Council (RAC) will meet as follows.

DATE: The RAC will meet on July 15, 2025, from 8 a.m. to 4 p.m. Mountain Time (MT).

ADDRESSES: The meeting will be held virtually using a web-based video-conferencing application. The meeting is open to the public. A public-comment period will be held from 11 a.m. to noon MT. Individuals who wish to attend must register with the person listed in the FOR FURTHER INFORMATION CONTACT section of this notice at least 7 business days prior to the meeting date.

FOR FURTHER INFORMATION CONTACT: Mark Jacobsen, Missouri Basin RAC Coordinator, BLM Eastern Montana-Dakotas District, 111 Garryowen Road, Miles City, Montana 59301; telephone: 406-233-2831; email: mjacobse@blm.gov. Persons in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member council advises the Secretary of the Interior, through the BLM, on a variety of planning and management issues associated with public land management in Central and Eastern Montana, and North and South Dakota. Agenda topics will include North-Central Montana and Eastern Montana/Dakotas District reports, Field Office reports, a public comment period, and other topics the RAC may wish to cover. A final agenda will be posted on the RAC's web page at https://www.blm.gov/get-involved/resource-advisory-council/near-you/montana-dakotas/missouri-basin-rac two weeks in advance of the meeting.

Public Comment Procedures: The BLM welcomes comments from all interested parties. A public-comment period will be held from 11 a.m. to noon MT. Depending on the number of persons wishing to comment and time available, the time for individual oral comments may be limited. Written comments to the RAC can be emailed in advance of the meeting to the individual listed in the FOR FURTHER INFORMATION CONTACT section of this notice. All comments will be provided to the RAC. Please include “RAC Comment” in your submission.

Before including your address, phone number, email address, or other personal identifying information in your comment, you should be aware that your entire comment—including your personal identifying information—may be made publicly available at any time. While you can ask us in your comment to withhold your personal identifying information from public review, we cannot guarantee that we will be able to do so.

Requests for Accommodations: Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

(Authority: 43 CFR 1784.4-2).

Wendy Warren,
Eastern Montana/Dakotas District Manager and Missouri Basin RAC Designated Federal Officer.

[FR Doc. 2025-10836 Filed 6-12-25; 8:45 am]

BILLING CODE 4331-20-P